DEPARTMENT OF THE TREASURY

Submission for OMB Review; Comment Request

August 21, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before September 26, 2008 to be assured of consideration.

Internal Revenue Service (IRS)

OMB Number: 1545-0001.

Type of Review: Extension.

Title: Employer's Annual Railroad Retirement Tax Return.

Forms: CT-1.

Description: Railroad employers are required to file an annual return to report employer and employee Railroad Retirement Tax Act (RRTA). Form CT-1 is used for this purpose. IRS uses the information to insure that the employer has paid the correct tax.

Respondents: Businesses or other for-profit institutions.

Estimated Total Burden Hours: 46,359 hours.

OMB Number: 1545-0058.

Type of Review: Extension.

Title: Application for Recognition of Exemption Under Section 521 of the Internal Revenue Code.

Form: 1028.

Description: Farmers' cooperatives must file Form 1028 to apply for exemption from Federal income tax as being organizations described in IRC section 521. The information on Form 1028 provides the basis for determining whether the applicants are exempt.

Respondents: Businesses and other for-profit institutions, farms.

Estimated Total Burden Hours: 2,545 hours.

OMB Number: 1545-1794.

Type of Review: Extension.

Title: Compensatory Stock Options Under Section 482.

Description: The information will be used to determine whether the participants in a qualified cost sharing arrangement are sharing stock-based compensation costs attributable to the intangible development area in proportion to reasonably anticipated benefits as required by the proposed amendment to the cost sharing regulations.

Respondents: Businesses or other for-profit institutions.

Estimated Total Burden Hours: 2,000 hours.

OMB Number: 1545-1269.

Type of Review: Extension.

Title: PS-7-90 (Final) Nuclear Decommissioning Fund Qualification Requirements.

Description: If a taxpayer requests, in connection with a request for a schedule of ruling amounts, a ruling as to the classification of certain unincorporated organizations, the taxpayer is required to submit a copy of the documents establishing or governing the organization.

Respondents: Businesses and other for-profit institutions.

Estimated Total Burden Hours: 150 hours.

OMB Number: 1545-1762.

Type of Review: Extension.

Title: Direct Deposit of Corporate Tax Refund.

Form: 8050.

Description: This form is used to request a deposit of a tax refund directly into an account at any U.S. bank or other financial institution.

Respondents: Businesses and other for-profit institutions.

Estimated Total Burden Hours: 348,600 hours.

OMB Number: 1545-1407.

Type of Review: Extension.

Title: Consent To Extend the Time To Assess the Branch Profits Tax Under Regulations Sections 1.884-2(a) and (c).

Form: 8848.

Description: Form 8848 is used by foreign corporations that have (a) completely terminated all of their U.S. trade or business within the meaning of Temporary Regulations section 1.884-2T(a) during the tax year or (b) transferred their U.S. assets to a domestic corporation in a transaction described in Code section 381(a), if the foreign corporation was engaged in a U.S. trade or business at that time.

Respondents: Businesses and other for-profit institutions.

Estimated Total Burden Hours: 22,500 hours.

OMB Number: 1545-1922.

Type of Review: Extension.

Title: Survey Questionnaire.

Form: 12884.

Description: Form 12884 is used to collect statistical information regarding advertising sources and RNO data.

Respondents: Individuals or households.

Estimated Total Burden Hours: 2,757 hours.

OMB Number: 1545-1776.

Type of Review: Extension.

Title: U.S. Income Tax Return for Electing Alaska Native Settlement Trusts.

Form: 1041-N.

Description: An Alaska Native Settlement Trust (ANST) may elect under section 646 to have the special income tax treatment of that section apply to the trust and its beneficiaries. This one-time election is made by filing Form 1041-N and the form is used by the ANST to report its income, etc., and to compute and pay any income tax. Form 1041-N is also used for the special information reporting requirements that apply to ANSTs.

Respondents: Businesses or other for-profit institutions.

Estimated Total Burden Hours: 680 hours.

OMB Number: 1545-1767.

Type of Review: Extension.

Title: REG-107644-98 (Final) Dollar-Value LIFO Regulations; Inventory Price Index Computation Method.

Description: The primary reason for obtaining this information is to ensure compliance by taxpayers electing to use both the LIFO inventory method and the IPIC method of accounting for their dollar-value inventory pools. Most respondents will be manufacturers, wholesalers, and retailers of tangible personal property.

Respondents: Businesses or other for-profit institutions.

Estimated Total Burden Hours: 1 hour.

OMB Number: 1545-1768.

Type of Review: Extension.

Title: Revenue Procedure 2003-84, Optional Election to Make Monthly Sec. 706 Allocations.

Description: This revenue procedure allows certain partnerships with money market fund partners to make an optional election to close the partnership's books on a monthly basis with respect to the money market fund partners.

Respondents: Businesses or other for-profit institutions.

Estimated Total Burden Hours: 500 hours.

OMB Number: 1545-1204.

Type of Review: Revision.

Title: Low-Income Housing Credit Agencies Report of Noncompliance or Building Disposition.

Form: 8823.

Description: Form 8823 is used by housing agencies to report noncompliance with the low-income housing provisions of Code section 42.

Respondents: State, local, or tribal governments.

Estimated Total Burden Hours: 372,200 hours.

OMB Number: 1545-1783.

Type of Review: Extension.

Title: TD 8989 (final) Guidance Necessary to Facilitate Electronic Tax Administration.

Description: The regulations provide a regulatory statement of IRS authority to prescribe what return information or documentation must be filed with a return, statement or other document required to be made under any provision of the internal revenue laws or regulations. In addition, the regulations eliminate regulatory impediments to electronic filing of Form 1040.

Respondents: Individuals or households.

Estimated Total Burden Hours: 1 hours.

OMB Number: 1545-0256.

Type of Review: Extension.

Title: Supporting Statement to Correct Information (Form 941c); Planilla Para La Correccion de Informacion (Form 941cPR).

Form: 941C.

Description: This form is used by employers to correct previously reported FICA or income tax data. It may be used to support a credit or adjustment claimed on a current return for an error in a prior return period. The information is used to reconcile wages and taxes previously reported or used to support a claim for refund, credit, or adjustment of FICA or income tax.

Respondents: Businesses and other for-profit institutions.

Estimated Total Burden Hours: 9,442,616 hours.

OMB Number: 1545-1493.

Type of Review: Extension.

Title: PS-7-89 (Final) Treatment of Gain From the Disposition of Interest in Certain Natural Resource Recapture Property by S Corporations and Their Shareholders.

Description: The regulation prescribes rules under section 1254 relating to the treatment by S corporations and their shareholders of gain from the disposition of natural resource recapture property and from the sale or exchange of S corporation stock. Shareholders that sell or exchange stock may submit a statement to rebut presumption of gain treatment.

Respondents: Businesses and other for-profit institutions.

Estimated Total Burden Hours: 1,000 hours.

OMB Number: 1545-1646.

Type of Review: Extension.

Title: REG-209060-86 Final, Return Requirement for United States Persons who acquire or dispose of an interest in a foreign partnership, or whose proportional interest in a foreign partnership changes.

Description: Section 6046A requires U.S. persons to provide certain information with respect to the acquisition or disposition of a 10-percent change in ownership of a foreign partnership. This regulation provides reporting rules to identify U.S. persons with respect to these interests.

Respondents: Businesses and other for-profit institutions.

Estimated Total Burden Hours: 1 hour.

OMB Number: 1545-1920.

Type of Review: Revision.

Title: Notice Regarding Repayment of a Buyout Prior to Re-employment with the Federal Government.

Form: 1311.

Description: Form 12311 is used to identify former Federal Employees who received a buyout within the past 5 years and are requesting re-employment.

Respondents: Individuals or households.

Estimated Total Burden Hours: 2,757 hours.

OMB Number: 1545-1926.

Type of Review: Extension.

Title: Notice 2005-10, Domestic Reinvestment Plans and Other Guidance under Section 965 (NOT-102132-05).

Description: This document provides guidance under new section 965 enacted by the American Jobs Creation Act of 2004 (Pub. L. 108-357). In general, and subject to limitations and conditions, section 965 (a) provides that a corporation that is a U.S. shareholder of a controlled foreign corporation (CFC) may elect, for one taxable year, an 85 percent dividends received deduction (DRD) with respect to certain cash dividends it receives from its CFC's. Section 965(f) provides that taxpayers may elect the application of section 965 for either the taxpayer's last taxable year which begins before October 22, 2004, or the taxpayer's first taxable year to which the taxpayer intends to elect section 965 to apply prior to the issuance of Form 8895, the election must be made on a statement that is attached to its timely-filed tax return (including extensions) for such taxable year. In addition, because the taxpayer must establish to the satisfaction of the Commissioner that it has satisfied the conditions to take the DRD, the taxpayer is required under this guidance to report specified information and provide specified documentation.

Respondents: Businesses or other for-profit institutions.

Estimated Total Burden Hours: 3,750,000 hours.

OMB Number: 1545-1924.

Type of Review: Extension.

Title: Biodiesel Fuels Credit.

Forms: 8864.

Description: IRC section 40A provides a credit for biodiesel or qualified biodiesel mixtures. IRC section 38(b)(17) allows a nonrefundable income tax credit for businesses that sell or use biodiesel. Form 8864 is used to figure the credits.

Respondents: Businesses or other for-profit institutions.

Estimated Total Burden Hours: 310 hours.

OMB Number: 1545-1759.

Type of Review: Extension.

Title: Amended Quarterly Federal Excise Tax Return.

Form: 720X.

Description: Representatives of the motor fuel industry, state governments, and the Federal government are working to ensure compliance with excise taxes on motor fuels. This joint effort has resulted in a system to track the movement of all product to and from terminals. Form 720-TO is an information return that will be used by terminal operators to report their monthly receipts and disbursements of products.

Respondents: Businesses and other for-profit institutions.

Estimated Total Burden Hours: 152,460 hours.

OMB Number: 1545-1658.

Type of Review: Extension.

Title: REG-107069-97 (Final) Purchase Price Allocations in Deemed Actual Asset Acquisitions.

Description: Section 338 of the Internal Revenue Code provides rules under which a qualifying stock acquisition is treated as an asset acquisition (as “deemed asset acquisition”) when an appropriate election is made. Section 1060 provides rules for the allocation of consideration when a trade or business is transferred. The collection of information is necessary to make the election, to calculate and collect the appropriate amount of tax liability when a qualifying stock acquisition is made, to determine the person liable for such tax and to determine the bases of assets acquired in the deemed asset acquisition.

Respondents: Businesses or other for-profit institutions.

Estimated Total Burden Hours: 25 hours.

OMB Number: 1545-1435.

Type of Review: Extension.

Title: TD 8706 (Final) Electronic Filing of Form W-4.

Description: Information is required by the Internal Revenue Service to verify compliance with section 31.3402(f)(5)-1, which authorizes employers to establish electronic systems for use by employees in filing their withholding exemption certificates. The affected respondents are employers that choose to make electronic filing of Forms W-4 available to their employees.

Respondents: Businesses and other for-profit institutions.

Estimated Total Burden Hours: 40,000 hours.

OMB Number: 1545-1649.

Type of Review: Extension.

Title: Rev. Proc. 99-21 Disability Suspension.

Description: The information is needed to establish a claim that a taxpayer was financially disabled for purposes of section 6511(h) of the Internal Revenue Code (which was added by section 3203 of the Internal Revenue Service Restructuring and Reform Act of 1998). Under section 6511(h), the statute of limitations on claims for credit or refund is suspended for any period of an individual taxpayer's life during which the taxpayer is unable to manage his or her financial affairs because of a medically determinable mental or physical impairment, if the impairment can be expected to result in death, or has lasted (or can be expected to last) for a continuous period of not less than 12 months. Section 6511(h)(2)(A) requires that proof of the taxpayer's financial disability be furnished to the Internal Revenue Service.

Respondents: Individuals or households.

Estimated Total Burden Hours: 24,100 hours.

OMB Number: 1545-1100.

Type of Review: Extension.

Title: REG-209106-89 (formerly EE-84-89)(NPRM) Changes With Respect to Prizes and Awards and Employee Achievement Awards.

Form: 8848.

Description: This regulation requires recipients of prizes and awards to maintain records to determine whether a qualifying designation has been made. The affected public are prize and award recipients who seek to exclude the cost of a qualifying prize or award.

Respondents: Individuals or households.

Estimated Total Burden Hours: 1,275 hours.

OMB Number: 1545-1638.

Type of Review: Extension.

Title: Small Business Tax Product Order Blank For IRS Designated Partners.

Form: 12196.

Description: Form 12196 is to be used by small business outlets to order IRS tax forms and publications. The form can be faxed directly to the IRS Area Distribution Center for order fulfillment, packaging and mailing.

Respondents: Businesses and other for-profit institutions.

Estimated Total Burden Hours: 42 hours.

OMB Number: 1545-1773.

Type of Review: Extension.

Title: Revenue Procedure 2002-23, Taxation of Canadian Retirement Plans Under U.S.—Canada Income Tax Treaty.

Description: This Revenue Procedure provides guidance for the application by U.S. citizens and residents of the U.S.—Canada Income Tax Treaty, as amended by the 1995 protocol, in order to defer U.S. Income taxes on income accrued in certain Canadian retirement plans.

Respondents: Individuals or households.

Estimated Total Burden Hours: 10,000 hours.

OMB Number: 1545-0003.

Type of Review: Extension.

Title: SS-4, Application for Employer Identification Number; SS-4PR, Solicitud de Numero de Identificacion Patronal (EIN).

Form: SS-4.

Description: Taxpayers required to have an identification number for use on any return, statement, or other document must prepare and file Form SS-4 of Form SS-4PR (Puerto Rico only) to obtain a number. The information is used by the IRS and the SSA in tax administration and by the Bureau of the Census for business statistics.

Respondents: Businesses or other for-profit institutions.

Estimated Total Burden Hours: 15,941,913 hours.

OMB Number: 1545-1486.

Type of Review: Extension.

Title: REG-209793-95 (Final) Simplification of Entity Classification Rules.

Description: These rules allow certain unincorporated business organizations to elect to be treated as corporations or partnerships for federal tax purposes. The information collected on the election will be used to verify the classification of electing organizations.

Respondents: Businesses or other for-profit institutions.

Estimated Total Burden Hours: 1 hour.

OMB Number: 1545-1919.

Type of Review: Extension.

Title: Prior Government Service Information.

Form: 12854.

Description: Form 12854 is used to record prior government service, annuitant information, and advice on probationary periods.

Respondents: Individuals or households.

Estimated Total Burden Hours: 6,203 hours.

OMB Number: 1545-0152.

Type of Review: Revision.

Title: Application for Change in Accounting Method.

Form: 3115.

Description: Form 3115 is used by taxpayers who wish to change their method of computing their taxable income. The form is used by the IRS to determine if electing taxpayers have met the requirements and are able to change to the method requested.

Respondents: Individuals or households.

Estimated Total Burden Hours: 929,066 hours.

OMB Number: 1545-0024.

Type of Review: Revision.

Title: Claim for Refund and Request for Abatement.

Form: 843.

Description: IRC section 6402, 6404, and sections 301.6404-2, and 301.6404-3 of the regulations allow for refunds of taxes (except income taxes) or refund, abatement, or credit of interest, penalties, and additions to tax in the event of errors or certain action by the IRS. Form 843 is used by taxpayers to claim these refunds, credits, or abatements.

Respondents: Individuals or households.

Estimated Total Burden Hours: 850,980 hours.

OMB Number: 1545-0284.

Type of Review: Extension.

Title: Application for Determination of Employee Stock Ownership Plan.

Form: 5309.

Description: Form 5309 is used in conjunction with Form 5300 or Form 5303 when applying for a determination letter as to a deferred compensation plan's qualification status under section 409 or 4975(e)(7) of the Internal Revenue Code. The information is used to determine whether the plan qualifies.

Respondents: Businesses and other for-profit institutions.

Estimated Total Burden Hours: 5,300 hours.

OMB Number: 1545-1491.

Type of Review: Extension.

Title: REG-209798-95 (Final) Amortizable Bond Premium.

Description: The information requested is necessary for the Service to determine whether a holder of a bond has elected to amortize bond premium and to determine whether an issuer or a holder has changed its method of accounting for premium.

Respondents: Businesses and other for-profit institutions.

Estimated Total Burden Hours: 7,500 hours.

OMB Number: 1545-1641.

Type of Review: Extension.

Title: Rev. Proc. 99-17 Mark to Market Election for Commodities Dealers and Securities and Commodities Traders.

Description: The revenue procedure prescribes the time and manner for dealers in commodities and traders in securities or commodities to elect to use the mark-to-market method of accounting under Sec. 475(e) or (f) of the Internal Revenue Code. The collections of information in sections 5 and 6 of this revenue procedure are required by the IRS in order to facilitate monitoring taxpayers changing accounting methods resulting from making the elections under Sec. 475(e) or (f).

Respondents: Individuals or households.

Estimated Total Burden Hours: 500 hours.

OMB Number: 1545-1581.

Type of Review: Extension.

Title: Continuation Coverage Requirements Applicable to Group Health Plans—Final (REG-209485-86).

Description: The statute and the regulations require group health plans to provide notices to individuals who are entitled to elect COBRA continuation coverage of their election rights. Individuals who wish to obtain the benefits provided under the statute are required to provide plans notices in the cases of divorce from the covered employee, a dependent child's ceasing to be a dependent under the terms of the plan, and disability. Most plans will require that elections of COBRA continuation coverage be made in writing. In cases where qualified beneficiaries are short by an insignificant amount in a payment made to the plan, the regulations require the plan to notify the qualified beneficiary if the plan does not wish to treat the tendered payment as full payment. If a health care provider contacts a plan to confirm coverage of a qualified beneficiary, the regulations require that the plan disclose the qualified beneficiary's complete rights to coverage.

Respondents: Businesses or other for-profit institutions.

Estimated Total Burden Hours: 404,640 hours.

OMB Number: 1545-1643.

Type of Review: Extension.

Title: REG-209484-87 (Final) Federal Insurance Contributions Act (FICA) Taxation of Amounts Under Employee Benefit Plans.

Description: This regulation provides guidance as to when amounts deferred under or paid from a nonqualified deferred compensation plan are taken into account as wages for purposes of the employment taxes imposed by the Federal Insurance Contributions Act (FICA). Section 31.3121(v)(2)-1(a)(2) requires that the material terms of a plan be set forth in writing.

Respondents: Businesses and other for-profit institutions.

Estimated Total Burden Hours: 12,500 hours.

OMB Number: 1545-1409.

Type of Review: Extension.

Title: Application for Determination of Employee Stock Ownership Plan.

Form: 8842.

Description: Form 8842 is used by corporations (including S corporations), tax-exempt organizations subject to the unrelated business income tax, and private foundations to annually elect the use of an annualization period in section 6655(e)(2)(c)(i) or (ii) for purpose of figuring the corporation's estimated tax payments under the annualized income installment method.

Respondents: Businesses and other for-profit institutions.

Estimated Total Burden Hours: 4,335 hours.

OMB Number: 1545-1765.

Type of Review: Extension.

Title: REG-119436-01 Final (TD 9171) New Markets Tax Credit.

Description: The regulations provide guidance for taxpayers claiming the new markets tax credit under section 45D of the Internal Revenue Code. The reporting requirements in the regulations require a qualified community development entity (CDE) to provide written notice to: (1) Any taxpayer who acquires an equity investment in the CDE at its original issue that the equity investment is a qualified equity investment entitling the taxpayer to claim the new markets tax credits; and (2) each holder of a qualified equity investment, including all prior holders of that investment that a recapture event has occurred. CDE's must comply with such reporting requirements to the Secretary as the Secretary may prescribe.

Respondents: Businesses and other for-profit institutions.

Estimated Total Burden Hours: 210 hours.

OMB Number: 1545-0216.

Type of Review: Revision.

Title: International Boycott Report.

Form: 5713.

Description: Form 5713 and related Schedules A, B, and C are used by any entity that has operations in a “boycotting” country. If that entity cooperates with or participates in an international boycott it loses a portion of the foreign tax credit, or deferral of FSC and IC-DISC benefits. The IRS uses Form 5713 to determine if any of the above benefits should be lost. The information is also used as the basis for a report to the Congress.

Respondents: Businesses or other for-profit institutions.

Estimated Total Burden Hours: 69,495 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-19809 Filed 8-26-08; 8:45 am]

BILLING CODE 4830-01-P